DEPARTMENT OF ENERGY

Federal Energy Regulatory Commission

[Project No. 6916-011]

City and County of Denver, Colorado; Notice of Availability of Environmental Assessment

In accordance with the National Environmental Policy Act of 1969 and the Federal Energy Regulatory Commission's (Commission) regulations, 18 CFR part 380 (Order No. 486, 52 FR 47897), the Office of Energy Projects has reviewed an application submitted by City and County of Denver, Colorado acting by and through its Board of Water Commissioners (Denver Water), to exempt its Strontia Springs Project No. 6916 from the licensing requirements of Part I of the Federal Power Act. The Strontia Project is located on the South Platte River, in Douglas and Jefferson counties, Colorado. The project occupies federal lands within Pike San Isabel National Forest, administered by the U.S. Forest Service.

An environmental assessment (EA) has been prepared as part of Commission staff's review of the proposal. In the application, Denver Water proposes to upgrade its turbine generator unit, which would increase the total installed capacity of the project to 1.25-megawatts, and to convert its license to an exemption. The EA contains Commission staff's analysis of the probable environmental impacts of the proposed action and concludes that approval of the proposal would not constitute a major federal action significantly affecting the quality of the human environment.

The Commission provides all interested persons an opportunity to view and/or print the EA via the internet through the Commission's Home Page (http://www.ferc.gov) using the eLibrary link. Enter the docket number, excluding the last three digits in the docket number field, to access the document. At this time, the Commission has suspended access to Commission's Public Reference Room, due to the proclamation declaring a National Emergency concerning the Novel Coronavirus Disease (COVID-19), issued by the President on March 13, 2020.

For assistance, contact FERC Online Support at FERCOnlineSupport@ferc.gov or toll-free at (866) 208-3676, or for TTY, (202) 502-8659. You may also register online at http://www.ferc.gov/docs-filing/esubscription.asp to be notified via email of new filings and issuances related to this or other pending projects.

Dated: July 1, 2020.
Kimberly D. Bose,
Secretary.

[FR Doc. 2020-14666 Filed 7-7-20; 8:45 am]

BILLING CODE 6717-01-P